DEPARTMENT OF JUSTICE

Notice of Lodging of Proposed Modification to Consent Decree Under the Clean Water Act

On June 1, 2016, the United States Department of Justice filed, on behalf of the Environmental Protection Agency, a proposed Modification to the 2002 Consent Decree in United States and the State of Maryland v. Mayor and the City Council of Baltimore, Maryland, Civil Action No. 1:02-CV-01524-JFM, with the United States District Court for the District of Maryland (“proposed Modified Consent Decree.”)

On September 30, 2002, the Court entered the 2002 Consent Decree between the parties resolving Plaintiffs' claims that the City of Baltimore violated the Clean Water Act (the “CWA”), 33 U.S.C. 1319(b) and (d), resulting from Baltimore's operation of its sewer system and wastewater control plant. Under the 2002 Consent Decree, Baltimore was required to eliminate any remaining combined sewers in the collections system, eliminate structures for sanitary sewer overflows (SSO), conduct thorough evaluations of the City's eight sewersheds, propose rehabilitation measures for each sewershed and implement such measures after approval. The 2002 Consent Decree provides for implementation completion by January 2016.

Baltimore did not meet the January 2016 deadline for all of the rehabilitation measures. This proposed Modified Consent Decree allows Baltimore more time to conduct the SSO work using a two-phased approach. Under the proposed Modified Consent Decree, the Phase I work is required to be completed by January 2021, and then Baltimore is required to submit a Phase II Plan for EPA approval by December 2022. The Phase II Plan must propose a schedule for work to be completed no later than December 2030. After the Phase II work Baltimore will conduct two years of post-implementation monitoring. If after the Phase II work is complete the Plaintiffs determine that additional work is necessary, they can require Baltimore to undertake additional remedial measures.

The publication of this notice opens a period for public comment on the proposed Modified Consent Decree. Comments should be addressed to the Assistant Attorney General, Environment and Natural Resources Division, United States and State of Maryland v. Mayor and the City Council of Baltimore, Maryland, Civil Action No. 1:02-CV-01524-JFM., D.J. Ref. No. DJ # 90-5-1-1-4402/1. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Modified Consent Decree may be examined and downloaded at this Justice Department Web site: https://www.justice.gov/enrd/consent-decrees. We will provide a paper copy of the proposed Modified Consent Decree upon written request and payment of reproduction costs. Please mail your request and payment to: Consent Decree Library, U.S. DOJ—ENRD, P.O. Box 7611, Washington, DC 20044-7611.

Please enclose a check or money order for $21.75 (25 cents per page reproduction cost) payable to the United States Treasury.

Robert Brook,
Assistant Section Chief, Environmental Enforcement Section, Environment and Natural Resources Division.

[FR Doc. 2016-13330 Filed 6-6-16; 8:45 am]

BILLING CODE 4410-15-P